DEPARTMENT OF COMMERCE

International Trade Administration

A-570-873 ; A-791-815

Ferrovanadium from the People(s Republic of China and the Republic of South Africa: Final Results of the Expedited Sunset Reviews of the Antidumping Duty Orders

AGENCY: Import Administration, International Trade Administration, Department of Commerce.

SUMMARY: On December 3, 2007, the Department of Commerce (“Department”) initiated sunset reviews of the antidumping duty orders on ferrovanadium from the People(s Republic of China (“PRC”) and the Republic of South Africa (“South Africa”), pursuant to section 751(c) of the Tariff Act of 1930, as amended (“Act”). See Initiation of Five-year (“Sunset”) Reviews, 72 FR 67890 (December 3, 2007) (“Sunset Initiations”); see also Notice of Amended Final Antidumping Duty Determination of Sales at Less Than Fair Value and Antidumping Duty Order: Ferrovanadium From the People(s Republic of China, 68 FR 4168 (January 28, 2003) (“PRC Order”); Notice of Antidumping Duty Order: Ferrovanadium from the Republic of South Africa, 68 FR 4169 (January 28, 2003) (“South Africa Order”). Based on the notices of intent to participate and adequate responses filed by the domestic interested parties, and the lack of response from any respondent interested party, the Department conducted expedited sunset reviews of the PRC Order and South Africa Order pursuant to section 751(c)(3)(B) of the Act and 19 C.F.R. 351.218(e)(1)(ii)(C)(2). As a result of these sunset reviews, the Department finds that revocation of either the PRC Order or the South Africa Order would likely lead to continuation or recurrence of dumping, at the levels indicated in the “Final Results of Sunset Reviews” section of this notice, infra.

EFFECTIVE DATE: April 9, 2008.

FOR FURTHER INFORMATION CONTACT: Juanita H. Chen; AD/CVD Operations, Import Administration, International Trade Administration, U.S. Department of Commerce, 14th Street and Constitution Avenue, NW, Washington, DC 20230; telephone: 202-482-1904.

SUPPLEMENTARY INFORMATION:

Background

On December 3, 2007, the Department initiated sunset reviews of the PRC Order and South Africa Order on ferrovanadium pursuant to section 751(c) of the Act. See Sunset Initiations. On December 18, 2007, the Department received timely notices of intent to participate in both sunset reviews (as joint submissions) from the Vanadium Producers and Reclaimers Association (“VPRA”), and its members Gulf Chemical & Metallurgical Corporation (“Gulf”), Gulf(s wholly owned subsidiary Bear Metallurgical Company (“Bear Metallurgical”), Metallurg Vanadium Corporation (“MVC”), and Strategic Minerals Corporation (on behalf of its wholly owned subsidiary, Stratcor, Inc.) (“Stratcor”) (collectively “Domestic Producers”), pursuant to 19 C.F.R. 351.218(d)(1)(i). In accordance with 19 C.F.R. 351.218(d)(1)(ii)(A), VPRA claimed interested party status under section 771(9)(E) of the Act as a trade or business association, a majority of whose members produce or wholesale a domestic like product in the United States. Gulf, Bear Metallurgical, MVC, and Stratcor claimed interested party status under section 771(9)(C) of the Act as domestic producers and/or wholesalers of subject merchandise.

On January 2, 2008, Domestic Producers jointly filed substantive responses in both sunset reviews, within the 30-day deadline as specified in 19 C.F.R. 351.218(d)(3)(i). The Department did not receive a substantive response from any respondent interested party in either sunset review. As a result, pursuant to section 751(c)(3)(B) of the Act and 19 C.F.R. 351.218(e)(1)(ii)(C)(2), the Department conducted expedited sunset reviews of the PRC Order and the South Africa Order.

SCOPE OF THE ORDERS

The scope of the orders covers all ferrovanadium regardless of grade, chemistry, form, shape, or size. Ferrovanadium is an alloy of iron and vanadium that is used chiefly as an additive in the manufacture of steel. The merchandise is commercially and scientifically identified as vanadium. The scope specifically excludes vanadium additives other than ferrovanadium, such as nitrided vanadium, vanadium-aluminum master alloys, vanadium chemicals, vanadium oxides, vanadium waste and scrap, and vanadium-bearing raw materials such as slag, boiler residues and fly ash. Merchandise under the Harmonized Tariff Schedule of the United States (“HTSUS”) item numbers 2850.00.2000, 8112.40.3000, and 8112.40.6000 are specifically excluded. Ferrovanadium is classified under HTSUS item number 7202.92.00. Although the HTSUS item number is provided for convenience and customs purposes, the Department(s written description of the scope of these orders remains dispositive.

ANALYSIS OF COMMENTS RECEIVED

A complete discussion of all issues raised in these sunset reviews is addressed in the accompanying Issues and Decision Memorandum, which is hereby adopted by this notice. See “Issues and Decision Memorandum for the Final Results in the Expedited Sunset Reviews of the Antidumping Duty Orders on Ferrovanadium from the People(s Republic of China and from the Republic of South Africa,” from Stephen J. Claeys, Deputy Assistant Secretary, to David M. Spooner, Assistant Secretary for Import Administration, dated April 1, 2008 (“I&D Memo”). The issues discussed in the accompanying I&D Memo include the likelihood of continuation or recurrence of dumping and the magnitude of the dumping margin likely to prevail if either the PRC Order or the South Africa Order were revoked. Parties can obtain a public copy of the I&D Memo on file in the Central Records Unit, room 1117, of the main Commerce building. In addition, a complete public version of the I&D Memo can be accessed directly on the Web at http://ia.ita.doc.gov/frn. The paper copy and electronic version of the I&D Memo are identical in content.

FINAL RESULTS OF SUNSET REVIEWS

The Department determines that revocation of the PRC Order on ferrovanadium would likely lead to continuation or recurrence of dumping at the rates listed below:

Manufacturers/Exporters/Producers | Weighted-Average Margin (Percent)
Pangang Group International Economic & Trading Corporation | 12.97%
PRC-Wide Entity | 66.71%

The Department determines that revocation of the South Africa Order on ferrovanadium would likely lead to continuation or recurrence of dumping at the rates listed below:

Manufacturers/Exporters/Producers | Weighted-Average Margin (Percent)
Highveld Steel and Vanadium Corporation, Ltd. | 116.00%
Xstrata South Africa (Proprietary) Limited | 116.00%
All Others | 116.00%

NOTIFICATION REGARDING ADMINISTRATIVE PROTECTIVE ORDER

This notice also serves as the only reminder to parties subject to administrative protective order (“APO”) of their responsibility concerning the return or destruction of proprietary information disclosed under APO in accordance with 19 C.F.R. 351.305. Timely notification of the return or destruction of APO materials or conversion to judicial protective order is hereby requested. Failure to comply with the regulations and terms of an APO is a violation which is subject to sanction.

We are issuing and publishing these results and notice in accordance with sections 751(c), 752, and 777(i)(1) of the Act.

Dated: April 1, 2008.
Stephen J. Claeys,
Acting Assistant Secretary for Import Administration.

[FR Doc. E8-7465 Filed 4-8-08; 8:45 am]

BILLING CODE 3510-DS-S